DEPARTMENT OF THE INTERIOR

Bureau of Land Management

[WY-100-05-1310-DB]

Notice of Meeting of the Pinedale Anticline Working Group's Air Quality Task Group

AGENCY: Bureau of Land Management, Interior.

ACTION: Notice of public meeting.

SUMMARY: In accordance with the Federal Land Policy and Management Act (1976) and the Federal Advisory Committee Act (1972), the U.S. Department of the Interior, Bureau of Land Management (BLM) Pinedale Anticline Working Group (PAWG) Air Quality Task Group (subcommittee) will meet in Pinedale, Wyoming, for a business meeting. Task Group meetings are open to the public.

DATES: A PAWG Air Quality Task Group meeting is scheduled for April 7, 2005, from 8 a.m. until 5 p.m.

ADDRESSES: The PAWG Air Quality Task Group meeting will be held in the U.S. Forest Service office at 29 E. Fremont Lake Rd., Pinedale, WY.

FOR FURTHER INFORMATION CONTACT: Susan Caplan, BLM/Air Quality TG Liaison, Bureau of Land Management, Wyoming State Office, 5353 Yellowstone Rd., Cheyenne, WY 82009, or PO Box 1828, Cheyenne, WY 82003; 307-775-6031.

SUPPLEMENTARY INFORMATION: The Pinedale Anticline Working Group (PAWG) was authorized and established with release of the Record of Decision (ROD) for the Pinedale Anticline Oil and Gas Exploration and Development Project on July 27, 2000. The PAWG advises the BLM on the development and implementation of monitoring plans and adaptive management decisions as development of the Pinedale Anticline Natural Gas Field (PAPA) proceeds for the life of the field.

At their second business meeting, the PAWG established seven resource- or activity-specific Task Groups, including one for Air Quality. Public participation on the Task Groups was solicited through the media, letters, and word-of-mouth.

The agenda for this meeting will include information gathering and discussion related to implementation and funding of the adopted air quality monitoring plan for the Pinedale Anticline gas field. At a minimum, public comments will be heard just prior to adjournment of the meeting.

Dated: February 23, 2005.
Priscilla E. Mecham,
Field Office Manager.

[FR Doc. 05-4041 Filed 3-2-05; 8:45 am]

BILLING CODE 4310-22-P